DEPARTMENT OF THE INTERIOR

Bureau of Land Management

[LLNV9330000.L14300000.ET0000; NVN50818; 09-08807; TAS: 14X1109]

Austin Administrative Site: Proposed Withdrawal Extension and Opportunity for Public Meeting, Lander County, NV

AGENCY: Bureau of Land Management, Interior.

ACTION: Notice.

SUMMARY: The Secretary of the Interior proposes to extend a withdrawal established by Public Land Order (PLO) No. 6760 for an additional 20 years. PLO No. 6760 withdrew 30 acres of National Forest System land from location under the mining laws to protect the Austin Administrative Site in Lander County, Nevada. The lands will remain open to the mineral leasing laws. This notice gives an opportunity to comment on the proposed action and to request a public meeting.

DATES: Comments and requests for a public meeting must be received by December 10, 2009.

ADDRESSES: Comments and meeting requests may be mailed to the Field Manager, BLM Tonopah Field Office, Attn: NVN-50818, P.O. Box 911, Tonopah, NV 89049.

FOR FURTHER INFORMATION CONTACT: Jacqueline M. Gratton, 775-861-6532.

SUPPLEMENTARY INFORMATION: The United States Forest Service filed an application with the Bureau of Land Management (BLM) requesting the extension of PLO No. 6760 which was published in the Federal Register in 1989 (54 FR 53612). The withdrawal will expire on December 28, 2009, unless extended.

The purpose of the proposed extension is to continue the protection of the Federal investment in the Austin Administrative Site. There are no suitable alternative sites as the land described contains permanent Federal facilities. Structures and improvements on the site include the Austin Ranger District offices, family housing for permanent and temporary employees, trailer sites with utilities, visitor and employee vehicle parking areas, a warehouse and horse corrals. The use of a right-of-way, interagency, or cooperative agreement would not provide adequate protection of the Federal investment.

Comments, including names and street addresses of respondents, and records relating to the application will be available for public review at the Tonopah Field Office, 1553 S. Main Street in Tonopah, Nevada, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from the public review, we cannot guarantee that we will be able to do so.

This application will be processed in accordance with regulations set forth in 43 CFR Part 2300. On determination by the authorized officer that a public meeting will be held, a notice of the time and place will be published in the Federal Register and local newspapers at least 30 days before the scheduled date of the meeting.

(Authority: 43 CFR 2310.3-1)

Michael R. Holbert,
Deputy State Director, Resources, Lands and Planning.

[FR Doc. E9-21926 Filed 9-10-09; 8:45 am]

BILLING CODE 4310-HC-P